DEPARTMENT OF AGRICULTURE

Agricultural Marketing Service

7 CFR Part 1280

[Document No. AMS-LP-19-0093]

RIN 0581-AC06

Lamb Promotion, Research, and Information Order; Activity Changes; Comment Period Reopened

AGENCY: Agricultural Marketing Service, USDA.

ACTION: Proposed rule; reopening of comment period.

SUMMARY: The Agricultural Marketing Service (AMS) is providing an additional 60 days for public comments on the proposed rule that would amend the Lamb Promotion, Research, and Information Order (Order). During the February 22, 2021, through March 24, 2021, comment period, AMS received two comments requesting additional time to analyze a potential volume threshold that would allow low-volume market agencies to be eligible for flexibilities to the proposed assessment remittance process. Such flexibilities would allow for very small, low-volume market agencies to utilize quarterly or yearly remittances, as opposed to the proposed monthly remittance process. The proposed flexibilities would reduce the regulatory burden for affected market agencies.

DATES: The comment period for the proposed rule originally published on October 5, 2020, at 85 FR 62617, is reopened. Comments must be received by July 6, 2021.

ADDRESSES: Comments should be posted online at www.regulations.gov. Comments received will be posted without change, including any personal information provided. All comments should reference the docket number AMS-LP-19-0093, the date of publication, and the page number of this issue of the Federal Register. Comments may also be sent to Jason Julian, Agricultural Marketing Specialist; Research and Promotion Division; Livestock and Poultry Program, AMS, USDA; Room 2627-S, STOP 0251, 1400 Independence Avenue SW, Washington, DC 20250-0251. Comments will be made available for public inspection at the above address during regular business hours or via the internet at www.regulations.gov.

FOR FURTHER INFORMATION CONTACT: Jason Julian, Agricultural Marketing Specialist, Research and Promotion Division, Livestock and Poultry Program, AMS, USDA; telephone: (202) 731-2149; or email: jason.julian@usda.gov.

SUPPLEMENTARY INFORMATION:

Background and Proposed Action

AMS proposed revisions to the assessment collection procedures that would require market agencies to collect the full assessment on sales of live lambs, including the first-handler assessment portion, for remittance to the Lamb Promotion, Research, and Information Board. The proposed assessment collection change would only apply to lambs sold through market agencies (e.g., commission merchant, auction market, livestock market). Other modes of sale, such as traditional markets (e.g., first handler purchases from a producer or feeder, independent of a market agency, direct sales) would continue to have assessments remitted through the pass-through collection process.

This document notifies the public of the reopening of the comment period from May 7, 2021 to July 6, 2021. Comments previously submitted during the initial 60-day comment period [October 5, 2020, through December 4, 2020] and the subsequent 30-day reopened comment period [February 22, 2021, through March 24, 2021] need not be resubmitted, as these comments are already incorporated into the public record and will be considered in the final rule.

Public Comment Requested

AMS received 11 comments from stakeholders during the initial sixty-day comment period. These comments represent the perspectives of various organizations and individuals within the stakeholder community and provided AMS additional context for decision making.

AMS reopened the comment period to encourage additional input on a topic identified by one commenter during the initial comment period.

The commenter requested that AMS consider allowing flexibility in the remittance of collected assessments by lower-volume or seasonal market agencies. The commenter suggested that requiring smaller market agencies to remit assessments every month, regardless of their sales volume, could be burdensome for those entities with very small volumes. The commenter asked AMS to consider additional flexibility for small market agencies by allowing them to remit accumulated assessments on a quarterly or annual basis. The proposed rule would require that remittances occur by the 15th day of the month following the month in which lambs were purchased for slaughter or export, regardless of sales volume for that month. The commenter suggested such flexibilities for small market agencies could be based on the average head of lamb sold annually, allowing markets below a specific threshold to remit on a quarterly or annual basis.

AMS is again reopening the comment period to encourage additional input on a topic identified by two commenters during the 30-day reopening comment period from February 22, 2021, to March 24, 2021. The two commenters requested additional time to gather and analyze more data to address the questions asked by AMS in the reopened 30-day comment period; hence the purpose of this notice.

In the previous comment period, AMS sought additional information from stakeholders to consider this type of flexibility. AMS is again seeking comments on the following questions:

1. What level or threshold should AMS consider as a low-volume market agency that might be eligible for additional flexibility?

2. Approximately how many market agencies would fit into such a category?

3. How would this type of flexibility reduce regulatory burden for those market agencies?

AMS seeks input on other appropriate thresholds—such as monthly or quarterly sales volume—to identify market agencies that might be eligible for regulatory flexibility regarding assessment remittance under the amended regulations. Any comments should be supported by data that is clearly quantified and explained.

Erin Morris,
Associate Administrator, Agricultural Marketing Service.

[FR Doc. 2021-09642 Filed 5-6-21; 8:45 am]

BILLING CODE P